NUCLEAR REGULATORY COMMISSION

[IA-01-023]

In the Matter of Paige Rowland; Order Prohibiting Involvement in NRC-Licensed Activities (Effective Immediately)

I

Paige Rowland was employed as a nuclear medicine technician at Central Michigan Community Hospital (Licensee) in Mount Pleasant, Michigan. Central Michigan Community Hospital holds License No. 21-08966-01, Amendment 37, issued by the Nuclear Regulatory Commission (NRC or Commission) pursuant to 10 CFR Parts 30 and 35 on August 10, 1998. The license authorizes the medical use of byproduct material for diagnostic and therapy purposes in accordance with the conditions specified therein. Ms. Rowland was authorized to use byproduct material under the supervision of an authorized user.

II

On June 22 to July 2, 1998, an inspection was conducted at the licensee's facility to determine whether activities were performed safely and according to NRC requirements. During the inspection, hospital staff informed the NRC that on August 2, 1996, an emergency lung scan, using technetium-99m, was conducted by an unqualified individual who was not under the supervision of an authorized user. Ms. Rowland, the on-call nuclear medicine technician (NMT), was unable to respond to the hospital's page and arranged for another hospital technician to conduct the lung scan, with Ms. Rowland on the telephone talking the other technician through the nuclear medicine procedure. While all activities were properly performed, the second individual was not qualified to perform the procedure and was not under the supervision of an authorized user in accordance with NRC requirements.

Based on the inspection results, the NRC Office of Investigations (OI) conducted an investigation to determine whether Ms. Rowland conspired with another hospital technician to deliberately violate NRC requirements by having the unqualified technician perform the lung scan without being under the supervision of an authorized user. The OI investigation concluded that Ms. Rowland and the unqualified technician conspired to deliberately cause the licensee to be in violation by having the unqualified and unsupervised individual perform the lung scan.

A predecisional enforcement conference was held with Ms. Rowland on January 26, 1999, to discuss the incident and obtain her perspective on the issue. Based on the information provided by Ms. Rowland during the conference, OI conducted a supplemental investigation to determine whether she provided inaccurate information to NRC staff during the conference. The OI investigation concluded that Ms. Rowland provided false information to the NRC relating to who performed the lung scan on August 2, 1996.

The OI investigators coordinated the results of their investigation with the U.S. Attorney's Office, Grand Rapids, Michigan, and Ms. Rowland was subsequently prosecuted for providing false information to the NRC. On November 30, 2000, Ms. Rowland pleaded guilty in the United States District Court for the Western District of Michigan to a criminal charge involving knowingly providing false statements to the NRC.

III

Based on the above, it appears that Paige Rowland, while an employee of the Licensee, engaged in deliberate misconduct that caused the Licensee to be in violation of 10 CFR 35.11(b) and her in violation of 10 CFR 30.10(a)(1). It further appears that Ms. Rowland has deliberately provided to NRC staff information that she knew to be incomplete or inaccurate in some respect material to the NRC, in violation of 10 CFR 30.10(a)(2). The NRC must be able to rely on the licensee and its employees to comply with NRC requirements and to provide information that is complete and accurate in all material respects. Ms. Rowland's deliberate action causing the licensee to violate 10 CFR 35.11(b) and her misrepresentations to the NRC have raised serious doubt whether she can be relied upon to comply with NRC requirements, to refrain from deliberately violating NRC rules and regulations, and to provide complete and accurate information to the NRC.

Consequently, I lack the requisite reasonable assurance that licensed activities can be conducted in compliance with the Commission's requirements and that the health and safety of the public will be protected if Ms. Rowland were permitted at this time to be involved in NRC-licensed activities. Therefore, the public health, safety and interest require that Ms. Rowland be prohibited from any involvement in NRC-licensed activities for a period of five years from November 30, 2000 (the date of her conviction). Additionally, Ms. Rowland is required to notify the NRC of her first employment in NRC-licensed activities for a period of five years following the prohibition period. Furthermore, pursuant to 10 CFR 2.202, I find that the significance of Ms. Rowland's conduct described above is such that the public health, safety and interest require that this Order be immediately effective.

Accordingly, pursuant to sections 81, 161b, 161i, 161o, 182 and 186 of the Atomic Energy Act of 1954, as amended, and the Commission's regulations in 10 CFR 2.202, 10 CFR 30.10, and 10 CFR 150.20, It Is Hereby Ordered, Effective Immediately, That:

1. Paige Rowland is prohibited for five years from November 30, 2000, from engaging in NRC-licensed activities. NRC-licensed activities are those activities that are conducted pursuant to a specific or general license issued by the NRC, including, but not limited to, those activities of Agreement State licensees conducted pursuant to the authority granted by 10 CFR 150.20.

2. If Ms. Rowland is currently involved with another licensee in NRC-licensed activities, she must immediately cease those activities, and inform the NRC of the name, address and telephone number of the employer, and provide a copy of this order to the employer.

3. For a period of five years after the five-year period of prohibition has expired, Ms. Rowland shall, within 20 days of acceptance of her first employment offer involving NRC-licensed activities or her becoming involved in NRC-licensed activities, as defined in Paragraph IV.1 above, provide notice to the Director, Office of Enforcement, U. S. Nuclear Regulatory Commission, Washington, DC 20555, of the name, address, and telephone number of the employer or the entity where she is, or will be, involved in the NRC-licensed activities. In the notification, Ms. Rowland shall include a statement of her commitment to compliance with regulatory requirements and the basis why the Commission should have confidence that she will now comply with applicable NRC requirements.

The Director, OE, may, in writing, relax or rescind any of the above conditions upon demonstration by Ms. Rowland of good cause.

V

In accordance with 10 CFR 2.202, Ms. Rowland must, and any other person adversely affected by this Order may, submit an answer to this Order, and may request a hearing on this Order, within 20 days of the date of this Order. Where good cause is shown, consideration will be given to extending the time to request a hearing. A request for extension of time must be made in writing to the Director, Office of Enforcement, U.S. Nuclear Regulatory Commission, Washington, DC 20555, and include a statement of good cause for the extension. The answer may consent to this Order. Unless the answer consents to this Order, the answer shall, in writing and under oath or affirmation, specifically admit or deny each allegation or charge made in this Order and shall set forth the matters of fact and law on which Ms. Rowland or other person adversely affected relies and the reasons as to why the Order should not have been issued. Any answer or request for a hearing shall be submitted to the Secretary, U.S. Nuclear Regulatory Commission, Attn: Rulemakings and Adjudications Staff, Washington, DC 20555. Copies also shall be sent to the Director, Office of Enforcement, U.S. Nuclear Regulatory Commission, Washington, DC 20555, to the Assistant General Counsel for Materials Litigation and Enforcement at the same address, to the Regional Administrator, NRC Region III, 801 Warrenville Road, Lisle, Illinois 60532-4351, and to Ms. Rowland if the answer or hearing request is by a person other than Ms. Rowland. If a person other than Ms. Rowland requests a hearing, that person shall set forth with particularity the manner in which his or her interest is adversely affected by this Order and shall address the criteria set forth in 10 CFR 2.714(d).

If a hearing is requested by Ms. Rowland or a person whose interest is adversely affected, the Commission will issue an Order designating the time and place of any hearing. If a hearing is held, the issue to be considered at such hearing shall be whether this Order should be sustained.

Pursuant to 10 CFR 2.202(c)(2)(i), Ms. Rowland, may, in addition to demanding a hearing, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section IV above shall be final 20 days from the date of this Order without further order or proceedings. If an extension of time for requesting a hearing has been approved, the provisions specified in Section IV shall be final when the extension expires if a hearing request has not been received. An answer or a request for hearing shall not stay the immediate effectiveness of this order.

Dated this 2nd day of April 2001.
For the Nuclear Regulatory Commission.
Carl J. Paperiello,
Deputy Executive Director for Materials, Research and State Programs.

[FR Doc. 01-8889 Filed 4-10-01; 8:45 am]

BILLING CODE 7590-01-P